DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: Bureau of Primary Health Care (BPHC) Uniform Data System (OMB No. 0915-0193)—[Revision]

The Uniform Data System (UDS) contains the annual reporting requirements for the cluster of primary care grantees funded by HRSA. The UDS includes reporting requirements for grantees of the following primary care programs: Community Health Centers, Migrant Health Centers, Health Care for the Homeless, Public Housing Primary Care, and other grantees under section 330. The authorizing statute is section 330 of the Public Health Service Act, as amended. Federally Qualified Health Center “Look-Alikes” do not receive grant funds, but report certain UDS data to HRSA in order to permit monitoring of their performance.

HRSA collects data in the UDS which are used to ensure compliance with legislative and regulatory requirements, improve health center performance and operations, and report overall program accomplishments. To meet these objectives, BPHC requires a core set of data collected annually that is appropriate for monitoring and evaluating performance and reporting on annual trends. The UDS will be revised in four ways: (1) A new staff tenure table is added to collect months of service for persons within specified categories; (2) three new clinical measures are added consistent with identified national priorities; (3) reporting of health conditions is based on all (vs. primary) diagnoses; and, (4) a limited number of questions are revised concerning Electronic Health Record (EHR) reporting capabilities and a new question is asked regarding health center national quality recognition.

The annual estimate of burden is as follows:

Type of report | Number of respondents | Responses per respondent | Total responses | Hours per response | Total burden hours
Universal report | 1,287 | 1 | 1,287 | 82 | 105,534
Grant report | 328 | 1 | 328 | 18 | 5,904
Total | 1,615 |  | 1,615 |  | 111,438

Written comments and recommendations concerning the proposed information collection should be sent within 30 days of this notice to the desk officer for HRSA, either by e-mail to: OIRA_submission@omb.eop.gov or by fax to (202) 395-6974. Please direct all correspondence to the attention of the desk officer for HRSA.

Dated: October 21, 2011.
Reva Harris,
Acting Director, Division of Policy Information and Coordination.

[FR Doc. 2011-28034 Filed 10-28-11; 8:45 am]

BILLING CODE 4165-15-P